ENVIRONMENTAL PROTECTION AGENCY

[FRL-6945-6]

Annual Conference on Analysis of Pollutants in the Environment

AGENCY: Environmental Protection Agency (EPA).

ACTION: Announcement of conference.

SUMMARY: The Office of Science and Technology and Battelle, co-sponsors, will hold the “24th Annual Conference on Analysis of Pollutants in the Environment” to discuss all aspects of environmental measurement. The conference is open to the public.

DATES: The annual conference will be held on May 8-10, 2001. On May 8, 2001, the conference will begin at 8:30 a.m. and adjourn at 5 p.m. On May 9, 2001, the conference will begin at 8:45 a.m. and adjourn at 5 p.m.

On May 10, 2001, a workshop on detection/quantitation will begin at 8:30 a.m. and adjourn at 12 p.m.

ADDRESSES: The conference will be held at the Renaissance Portsmouth Hotel, 425 Water Street, Portsmouth, Virginia 23704.

FOR FURTHER INFORMATION CONTACT: Conference and workshop arrangements are being conducted by Battelle. For information on registration, hotel rates, transportation, social events, and reservations call Chantal Keleher, Battelle, at (781) 952-5303. If you have technical questions regarding the conference or workshop programs, please contact Marion Kelly, e-mail: kelly.marion@epa.gov or by facsimile at (202) 260-7185.

SUPPLEMENTARY INFORMATION: The 24th Annual Conference on Analysis of Pollutants in the Environment is designed to bring together representatives of regulated industries, commercial environmental laboratories, State and Federal regulators, municipal water and wastewater laboratories, and environmental consultants and contractors to discuss all aspects of environmental measurement with a particular focus on environmental water regulations, compliance monitoring, and related issues.

The draft program for the conference follows:

Tuesday, May 8, 2001

Welcome and Status of Office of Water Activities

8:45 a.m. Welcome—Robert G. Beimer, Battelle-Duxbury Operations

9 a.m. Opening Remarks—William Telliard, U.S. EPA Office of Science & Technology, Engineering and Analysis Division

9:15 a.m. Office of Water Activities—James Hanlon, Acting Deputy Assistant Administrator, U.S. EPA Office of Water

Performance-Based Measurements

9:45 a.m. Implementation of Performance-based Measurements by the Environmental Laboratory Advisory Board within the National Environmental Laboratory Accreditation Conference—Harry I. Gearhart, DuPont

10:15 a.m. Break

Trace Metals

10:30 a.m. Water Column Complexation and Speciation of Copper, Zinc, and Cadmium and Their Benthic Fluxes in the Elizabeth River, Virginia—John R. Donat and David J. Burdige, Old Dominion University

11 a.m. A Comparison of Modified EPA Method 245.6 (CVAA) and EPA Method 1631B, Attachment 1 (CVAF) for Determination of Mercury in Tissue—Brenda Lasorsa, MaryAnn Deuth, and Eric Crecelius, Battelle—Marine Sciences Laboratory

11:30 a.m. Effects of Bottle Material (Glass or Teflon) and Sample Holding Time on Determination of Mercury at Low Part-per-trillion Levels using EPA Method 1631—Beverly H. van Buuren, Nicolas S. Bloom, and Philip I. Kilner, Frontier Geosciences

12 p.m. Lunch

Workshop

1:30 p.m. “Hands-on” Workshop for Sampling Trace Metals, Including Mercury—U.S. EPA Office of Science & Technology Staff and DynCorp Information & Enterprise Technology Staff. Presentations and a training video will be followed by a “hands-on” demo

3 p.m. “Hands-on” Demo for Sampling Trace Metals, Including Mercury Workshop participants will collect an aqueous sample using the “clean hands/dirty hands” technique and an operational continuous-flow sampler as described in EPA's trace metals methods. Please bring appropriate clothing and be prepared to get dirty. Participants will be divided into groups of 12 for the 30 minute “hands-on” demo. The demo sessions will continue on Wednesday, May 9, from 1:30 p.m. until 5 p.m. Participants registering for May 8 sessions only, will be accommodated in a “hands-on” demo session on this date

5:30 p.m. Conference Reception

Wednesday, May 9, 2001

Microbiologicals

8:45 a.m. Validation of Methods for Cryptosporidium, Giardia, Coliphages, Aeromonas, and Salmonella to Support Regulations for Water and Biosolids—Kevin Connell, Misty Pope, Jennifer Scheller, and Jessica Pulz, DynCorp Information & Enterprise Technology

9:15 a.m. New Methods for Protozoa in Wastewater—Jennifer Clancy, CEC

9:45 a.m. The Influence of Extended Sample Holding Times on Fecal Coliform Bacteria Counts—Donald H. Smith, Roger E. Stewart, II; and Deborah C. Paul; Virginia Department of Environmental Quality

10 a.m. Break

Organics

10:15 a.m. High Resolution Mass Spectrometry Method for Determination of Organo-chlorine and Organo-phosphate Pesticides in Water at the Part-per-quadrillion Level—Brian Fowler, Steve Kennedy, and Coreen Hamilton, Axys Analytical Services

10:45 a.m. Field Analyses for Rapid Sediment Characterization: XRF for Metal Contaminants, UVF and Immunoassays for Organic Contaminants, and QwikSed as a Screening Bioassay—J. Leather, D. Lapota, V. Kirtay, G. Rosen, J. Guerrero, B. Ayers, and S. Apitz, Space and Naval Warfare Systems Center

New Developments

11:15 a.m. Determination of Perfluorooctanyl Sulfonates at Trace Levels in Water—Kirsten J. Hansen, Lisa A. Dick, and Harold O. Johnson, 3M

11:45 a.m. Lunch

Concurrent Workshops

1 p.m. Whole Effluent Toxicity (WET) Testing Workshop—U.S. EPA Office of Science & Technology Staff and DynCorp Information & Enterprise Technology Staff The WET workshop will address recent developments in WET testing, including overviews of new EPA guidance documents and the results of EPA's WET Inter-laboratory Variability Studies. The workshop also will present perspectives on the WET program from State and Regional permitting authorities, commercial laboratories, and permittees

1:30 p.m. “Hands-on” Demo for Sampling Trace Metals, Including Mercury—U.S. EPA Office of Science & Technology Staff and DynCorp Information & Enterprise Technology Staff

5 p.m. Adjourn

Thursday, May 10, 2001

Workshop

8:30 a.m. Detection/Quantitation Workshop—U.S. EPA Office of Science & Technology Staff. This workshop will address alternate approaches to detection and quantitation. Speakers will include representatives from EPA, Standard Methods, the Association of Official Analytical Chemists (AOAC International), and the American Society for Testing and Materials (ASTM)

12 p.m. Adjourn

Dated: February 12, 2001.
Geoffrey Grubbs,
Director, Office of Science and Technology.

[FR Doc. 01-4117 Filed 2-16-01; 8:45 am]

BILLING CODE 6560-50-P